DEPARTMENT OF JUSTICE

Notice of Lodging Proposed Consent Decree

In accordance with Departmental Policy, 28 CFR 50.7, notice is hereby given that a proposed Consent Decree in United States v. Richard Reid, Lee Reid and Redesign' Landscape Contractors, Inc., Civ. No. 06-1103, was lodged with the United States District Court for the Northern District of Illinois on September 13, 2007. This proposed Consent Decree concerns a complaint filed by the United States against Richard Reid, Lee Reid and Redesign' Landscape Contractors, Inc., pursuant to Section 301(a) of the Clean Water Act (“CWA”), 33 U.S.C. 1311(a), to obtain injunctive relief from and impose civil penalties against the Defendants for violating the Clean Water Act by discharging pollutants without a permit into waters of the United States. The proposed Consent Decree resolves these allegations by requiring the Defendants to a pay a civil penalty. The Defendants have restored the impacted area.

The Department of Justice will accept written comments relating to this proposed Consent Decree for thirty (30) days from the date of publication of this Notice. Please address comments to Donald R. Lorenzen, United States Attorney's Office, 219 South Dearborn Street, 5th Floor, Chicago, Illinois 60604, and refer to United States v. Richard Reid, Lee Reid and Redesign' Landscape Contractors, Inc., Civ. No. 06-1103.

The proposed Consent Decree may be examined at the Clerk's Office, United States District Court for the Northern District of Illinois, Everett McKinley Dirksen Building, 219 South Dearborn Street, Chicago, Illinois 60604. In addition, the proposed Consent Decree may be viewed at http://www.usdoj.gov/enrd/Consent_Decrees.html.

Scott Schachter,
Assistant Chief, Environmental Defense Section, Environment & Natural Resources Division.

[FR Doc. 07-4664 Filed 9-19-07; 8:45 am]

BILLING CODE 4410-15-M